DEPARTMENT OF LABOR

Employment and Training Administration

[TA-W-38,399]

Reactive Metals & Alloys Corporation, West Pittsburg, Pennsylvania; Notice of Termination of Investigation

Pursuant to Section 221 of the Trade Act of 1974, an investigation was initiated on December 11, 2000, in response to a petition field on behalf of workers at Reactive Metals & Alloys Corporation, West Pittsburg, Pennsylvania.

The petitioning group of workers is subject to an ongoing investigation for which a determination has not yet been issued (TAW-38,324). Consequently, further investigation in this case would serve no purpose, and the investigation has been terminated.

Signed in Washington, D.C. this 26th day of January, 2001.
Linda G. Poole,
Certifying Officer, Division of Trade Adjustment Assistance.

[FR Doc. 01-5084 Filed 3-1-01; 8:45 am]

BILLING CODE 4510-30-M